DEPARTMENT OF AGRICULTURE

Agricultural Marketing Service

[Document Number AMS-NOP-15-0004; NOP-15-03]

National Organic Program; Nominations for Task Force Members

AGENCY: Agricultural Marketing Service, USDA.

ACTION: Notice.

SUMMARY: The Agricultural Marketing Service (AMS) is soliciting nominees to participate in a task force to examine hydroponic and aquaponic practices and their alignment with the USDA organic regulations and the Organic Foods Production Act (OFPA). The USDA organic regulations do not include specific provisions for organic hydroponic or aquaponic production. However, these production systems have obtained certification under the USDA organic regulations by complying with the existing requirements for organic crop production. The task force will inform the National Organic Standards Board (NOSB) of their findings and advise on what practices should be allowed or restricted in organic hydroponic and aquaponic production.

DATES: Written nominations, with resumes, must be post-marked on or before May 8, 2015. Electronic submissions must be received on or before May 8, 2015.

ADDRESSES: Nominations should be sent to Rita Meade, USDA-AMS-NOP, 1400 Independence Avenue SW., Room 2648-So., Ag Stop 0268, Washington, DC 20250-0268 or via email to Rita.Meade@ams.usda.gov. Electronic submittals by email are preferred.

FOR FURTHER INFORMATION CONTACT: Mark Bradley, Assistant to the Deputy Administrator, National Organic Program, 1400 Independence Avenue SW., Room 2648, STOP 0268; Washington, DC 20250-0268; Telephone (202) 720-3252; Fax: (202) 205-7808; email: Mark.Bradley@ams.usda.gov.

SUPPLEMENTARY INFORMATION:

Why is this task force being formed?

The Organic Foods Production Act of 1990, as amended (7 U.S.C. 6501-6522) provides for the certification of agricultural products for human consumption. To implement this Act, AMS published the USDA organic regulations on December 20, 2000. The regulations provide for the certification of crops and livestock production and operations that handle and process agricultural products. Hydroponic and aquaponic operations are currently being certified under the USDA organic regulations.

Hydroponics is a method of growing plants using mineral nutrient solutions in water without soil. Terrestrial plants may be grown with their roots in the mineral nutrient solution only or in an inert medium, such as perlite, gravel, biochar, or coconut husk. Aquaponics combines the features of hydroponics and aquaculture. In these systems, the metabolic waste from fish tanks provides a source of nutrients for vegetables grown hydroponically. The USDA organic regulations do not include specific provisions for organic hydroponic or aquaponic production. However, there are certified organic operations observing the crop production requirements of the USDA organic regulations to produce organic crops via hydroponic or aquaponic growing methods. These operations, for example, must maintain water quality and use only approved inputs as fertilizers and pest control practices. Organic hydroponic production is allowed as long as the producer can demonstrate compliance with the USDA organic regulations.

In 2010, the NOSB provided recommendations to the NOP on Production Standards for Terrestrial Plants in Containers and Enclosures (Greenhouses). The NOSB recommended practice standards for growing terrestrial plants in containers using growing media rather than soil. The NOSB recommended not allowing organic hydroponic production because these systems are not soil based.

AMS is assembling a task force to assess the diversity of these soilless production practices and advise on what specific practices may or may not be supported by the current USDA organic regulations.

What are the hydroponics task force's objectives and time requirements?

There are two main objectives of the task force: (i) To describe current hydroponic and aquaponic production methods used in organic production, and (ii) to assess whether these practices align with OFPA and the USDA organic regulations. The task force will prepare a report advising the NOSB on proposed standards or guidelines for hydroponic and aquaponic methods in organic agriculture. The report may be used to inform the NOSB on recommendations concerning hydroponic and aquaponic systems and for possible guidance or rulemaking by the NOP.

USDA will name the members of the task force approximately 120 days after the publication of this notice. The discussions between task force members will be conducted through electronic mail and conference calls with no requirement for travel. We expect the task force to present its completed report to the NOSB in the spring of 2016.

What are the minimum skills and experience requirements to be considered for this task force?

Candidates for the hydroponics and aquaponics task force should have 3 years of demonstrable work experience in hydroponic or aeroponic production in any of the following roles: Producer; researcher or scientist; consumer representative; conservationist; systems designer; organic inspector; or accredited certifying agent. Candidates with demonstrable knowledge of organic production or certification procedures are preferred.

Successful candidates should be familiar with the NOSB recommendation on Production Standards for Terrestrial Plants in Containers and Enclosures (Greenhouses).

Persons interested in serving on this task force should submit their qualifications in a resume or curriculum vitae format. In addition to this information, candidates should submit, if applicable, a “declaration of interests” list. This list should state all direct commercial, financial, consulting, family, or personal relationships that currently exist or have existed with business entities that may be regulated through any future rulemaking on these issues. The declaration of interests lists should cover activities undertaken by the candidate during the past 12 months.

Authority: 7 U.S.C. 6501-6522.

Dated: March 4, 2015.
Rex A. Barnes,
Associate Administrator, Agricultural Marketing Service.

[FR Doc. 2015-05403 Filed 3-6-15; 8:45 am]

BILLING CODE P